DEPARTMENT OF LABOR

Notice of Initial Determination Revising the List of Products Requiring Federal Contractor Certification as to Forced or Indentured Child Labor

AGENCY: Bureau of International Labor Affairs, United States Department of Labor.

ACTION: Request for comments.

SUMMARY: This initial determination proposes to revise the list (E.O. List) required by the “Prohibition of Acquisition of Products Produced by Forced or Indentured Child Labor” in accordance with the Department of Labor's “Procedural Guidelines for the Maintenance of the List of Products Requiring Federal Contractor Certification as to Forced or Indentured Child Labor” (the Procedural Guidelines). The E.O. List identifies products by their country of origin that the Department of Labor (DOL), in consultation and cooperation with the Departments of State and Homeland Security (the three Departments), has a reasonable basis to believe might have been mined, produced, or manufactured by forced or indentured child labor. This notice proposes to add one new line item (bricks from Cambodia) to the E.O. List. DOL invites public comment on this initial determination. The three Departments will consider all public comments prior to publishing a final determination revising the E.O. List.

DATES: Information should be submitted to the Office of Child Labor, Forced Labor, and Human Trafficking (OCFT) via one of the methods described below by no later than 5 p.m., December 1, 2020.

FOR FURTHER INFORMATION CONTACT: Marcia Eugenio, Director, Office of Child Labor, Forced Labor, and Human Trafficking, Bureau of International Labor Affairs, U.S. Department of Labor, at (202) 693-4843 (this is not a toll free number). Individuals with hearing or speech impairments may access the telephone number above via TTY by calling the Federal Information Relay Service at 1-877-889-5627. Comments, identified as “Docket No. DOL-2020-0008,” may be submitted by any of the following methods:

• Federal eRulemaking Portal: http://www.regulations.gov. The portal includes instructions for submitting comments. Parties submitting responses electronically are encouraged not to submit paper copies.

• Email: EO13126@dol.gov.

SUPPLEMENTARY INFORMATION:

I. Information Sought

DOL is requesting public comment on the revisions to the list proposed below, as well as any other issue related to the fair and effective implementation of Executive Order (E.O.) 13126. This notice is a general solicitation of comments from the public. All submitted comments will be made a part of the public record and will be available for inspection on http://www.regulations.gov.

In conducting research for this initial determination, DOL considered a wide variety of materials based on its own research and originating from other U.S. Government agencies, foreign governments, international organizations, non-governmental organizations, U.S. Government-funded technical assistance and field research projects, academic and other independent research, media, and other sources. The Department of State and U.S. embassies and consulates abroad also provide important information by gathering data from contacts, conducting site visits, and reviewing local media sources. In developing the proposed revision to the E.O. List, DOL's review focused on information concerning the use of forced or indentured child labor that was available from the above sources.

As outlined in the Procedural Guidelines, several factors were weighed in determining whether or not a product should be placed on the revised E.O. List: The nature of the information describing the use of forced or indentured child labor; the source of the information; the date of the information; the extent of corroboration of the information by other sources; whether the information involved more than an isolated incident; and whether recent and credible efforts are being made to address forced or indentured child labor in a particular country or industry (66 FR 5351).

This notice constitutes the initial determination to revise the E.O. List issued March 25, 2019.

Based on recent credible and appropriately corroborated information from various sources, DOL preliminarily concludes that there is a reasonable basis to believe that the following product, identified by the country of origin, might have been mined, produced, or manufactured by forced or indentured child labor:

Product | Country
Bricks | Cambodia.

DOL invites public comment on whether these products (and/or other products, regardless of whether they are mentioned in this Notice) should be included in or removed from the revised E.O. List. To the extent possible, comments provided should address the criteria for inclusion of a product on the E.O. List contained in the Procedural Guidelines discussed above.

Following receipt and consideration of comments on the addition to the E.O. List set out above, DOL, in consultation and cooperation with the Departments of State and Homeland Security, will issue a final determination in the Federal Register. The three Departments intend to continue to revise the E.O. List periodically to add and/or remove products as warranted by the receipt of new and credible information.

II. Background

On June 12, 1999, President Clinton signed E.O. 13126, which was published in the Federal Register on June 16, 1999 (64 FR 32383). E.O. 13126 declared that it was “the policy of the United States Government . . . that executive agencies shall take appropriate actions to enforce the laws prohibiting the manufacture or importation of goods, wares, articles, and merchandise mined, produced or manufactured wholly or in part by forced or indentured child labor.” Pursuant to E.O. 13126, and following public notice and comment, DOL published in the January 18, 2001, Federal Register the first E.O. List of products, along with their respective countries of origin, that DOL, in consultation and cooperation with the Departments of State and Treasury (whose relevant responsibilities are now within the Department of Homeland Security), had a reasonable basis to believe might have been mined, produced, or manufactured with forced or indentured child labor (66 FR 5353).

The Procedural Guidelines provide that the E.O. List may be revised through consideration of submissions by individuals and on DOL's own initiative. When proposing a revision to the E.O. List, DOL must publish in the Federal Register a notice of initial determination, which includes any proposed alteration to the E.O. List. DOL will consider all public comments prior to the publication of a final determination of a revised E.O. List, which is made in consultation and cooperation with the Departments of State and Homeland Security.

On January 18, 2001, pursuant to Section 3 of E.O. 13126, the Federal Acquisition Regulatory Council published a final rule to implement specific provisions of E.O. 13126 that requires, among other things, that federal contractors who supply products that appear on the E.O. List certify to the contracting officer that the contractor, or, in the case of an incorporated contractor, a responsible official of the contractor, has made a good faith effort to determine whether forced or indentured child labor was used to mine, produce, or manufacture any product furnished under the contract and that, on the basis of those efforts, the contractor is unaware of any such use of forced or indentured child labor. See 48 CFR Subpart 22.15.

On September 11, 2009, DOL published an initial determination in the Federal Register proposing to revise the E.O. List to include 29 products from 21 countries. The Notice requested public comments for a period of 90 days. Public comments were received and reviewed by all relevant agencies and a final determination was issued on July 20, 2010. The most recent E.O. List, finalized on March 25, 2019, includes 34 products from 25 countries.

The current E.O. List and the Procedural Guidelines can be accessed on the internet at https://www.dol.gov/agencies/ilab/reports/child-labor/list-of-products.

III. Definitions

Under Section 6(c) of E.O. 13126:

Forced or indentured child labor—Forced or indentured child labor means all work or service:

(1) Exacted from any person under the age of 18 under the menace of any penalty for its nonperformance and for which the worker does not offer himself voluntarily; or

(2) Performed by any person under the age of 18 pursuant to a contract the enforcement of which can be accomplished by process or penalties.

Authority: Executive Order 13126 of June 12, 1999.

Signed at Washington, DC, this 28th day of September 2020.
Grant Lebens,
Chief of Staff, Bureau of International Labor Affairs.

[FR Doc. 2020-21789 Filed 10-1-20; 8:45 am]

BILLING CODE 4510-28-P